DEPARTMENT OF THE INTERIOR

Bureau of Land Management

[OR-116-5870-EU: HAG04-0023]

Realty Action: Direct Sale of Public Land in Josephine County, OR 57956

AGENCY: Bureau of Land Management (BLM), Interior.

ACTION: Notice of realty action.

SUMMARY: The following described public land in Josephine County, Oregon, has been examined and found suitable for sale under sections 203 and 209 of the Federal Land Policy and Management Act of 1976 (90 Stat. 2750, 43 U.S.C. 1713 and 1719), at not less than the appraised market value. The parcel proposed for sale is identified as suitable for disposal in the Medford District Resource Management Plan (June 1995).

The parcel proposed for sale is identified as follows:

Willamette Meridian

T. 34 S., R. 7 W.,

Section 3, lot 5.

The area described contains 2.46 acres, more or less, in Josephine County, Oregon. The appraised market value for this parcel has been determined to be $4,060.00.

DATES: On or before March 26, 2004, interested persons may submit written comments. In the absence of any objections, this proposal will become the determination of the Department of the Interior.

ADDRESSES: Written comments should be submitted to Lynda Boody, Glendale Resource Area Field Manager, 3040 Biddle Road, Medford, Oregon 97504. Electronic format submittal is not acceptable.

FOR FURTHER INFORMATION CONTACT: Detailed information concerning this land sale, including the reservations, sale procedures and conditions, and planning and environmental documents, is available from Mathew Craddock, Realty Specialist, at the above address, phone (541) 618-2221.

SUPPLEMENTARY INFORMATION: This land is being considered for direct sale to Jack and Jackie Gray, the family of Mary Gray, to resolve a long-term, inadvertent, unauthorized occupancy of the public land. The encroachment involves a residence currently occupied by Mary Gray, the original historic Gray family home, outbuildings, equipment storage, a road and a well. The Gray family owns private property adjacent to the subject public land. The initial occupancy began approximately sixty years ago when the Gray family placed improvements on the public land assuming it was part of their adjacent private ownership.

The sale would assemble the BLM lands to the Gray property, protect the improvements placed on the lands by the Gray family, and resolve an inadvertent trespass. The parcel is the minimum size possible to ensure that all of the improvements are included. A cadastral survey was completed to partition the sale parcel from the larger BLM ownership.

In accordance with 43 CFR 2710.0-6(c)(3)(iii), direct sale procedures are appropriate to resolve an inadvertent unauthorized occupancy of the land and to protect existing equities in the land.

Jack and Jackie Gray will be allowed 30 days from receipt of a written offer to submit a deposit of at least 20 percent of the appraised market value of the parcel, and 180 days thereafter to submit the balance.

The following rights, reservations, and conditions will be included in the deed conveying the land:

1. A reservation to the United States for a right-of-way for ditches and canals constructed by the authority of the United States, Act of August 30, 1890 (43 U.S.C. 945).

2. A reservation to the United States for a right-of-way for Bureau of Land Management road #34-7-2 (OR 1902).

The deed would contain a floodplain covenant pursuant to the authority contained in section 3(d) of Executive Order 11988 of May 24, 1977, and sections 203 and 209 of the Federal Land Policy and Management Act of 1976, 90 Stat. 2750, 43 U.S.C. 1713 and 1719. The deed is subject to a restriction which constitutes a covenant running with the land. The land may be used only for a residential homesite. No additional structures may be placed within the floodplain area without the approval of local government planning offices.

The deed would also include a notice and indemnification statement under the Comprehensive Environmental Response, Compensation and Liability Act (42 U.S.C. 9620) holding the United States harmless from any release of hazardous materials that may have occurred as a result of the unauthorized use of the property by other parties.

Acceptance of the direct sale offer constitutes an application for conveyance of the mineral interests also being offered under the authority of section 209(b) of the Federal Land Policy and Management Act of 1976. In addition to the full purchase price, a nonrefundable fee of $50 will be required from the prospective purchaser for purchase of the mineral interests to be conveyed simultaneously with the sale of the land.

The land described is segregated from appropriation under the public land laws, including the mining laws, pending disposition of this action or 270 days from the date of publication of this notice, whichever occurs first. Protests/comments, including names, street addresses, and other contact information of respondents, will be available for public review. Individual respondents may request confidentiality.

If you wish to request that BLM consider withholding your name, street address and other contact information (such as: Internet address, FAX or phone number) from public review or from disclosure under the Freedom of Information Act, you must state this prominently at the beginning of your written comment. BLM will honor requests for confidentiality on a case-by-case basis to the extent allowed by law. BLM will make available for public inspection in their entirety all submissions from organizations or businesses, and from individuals identifying themselves as representatives or officials of organizations or businesses.

Dated: December 3, 2003.
Lynda Boody,
Field Manager Glendale Resource Area, Medford District Office.

[FR Doc. 04-2757 Filed 2-9-04; 8:45 am]

BILLING CODE 4310-33-P